DEPARTMENT OF ENERGY

Federal Energy Regulatory Commission

[Docket No.CP17-3-000]

Dominion Carolina Gas Transmission LLC; Notice of Intent To Prepare an Environmental Assessment for the Proposed Line A Abandonment Project and Request for Comments on Environmental Issues

The staff of the Federal Energy Regulatory Commission (FERC or Commission) will prepare an environmental assessment (EA) that will discuss the environmental impacts of the Line A Abandonment Project (Project) involving abandonment and modification of natural gas facilities by Dominion Carolina Gas Transmission LLC (DCG) in Chester, Kershaw, Lancaster, and York Counties, South Carolina. The Commission will use this EA in its decision-making process.

This notice announces the opening of the scoping process the Commission will use to gather input from the public and interested agencies on the Project. You can make a difference by providing us with your specific comments or concerns about the Project. Your comments should focus on the potential environmental effects, reasonable alternatives, and measures to avoid or lessen environmental impacts. Your input will help the Commission staff determine what issues they need to evaluate in the EA. To ensure that your comments are timely and properly recorded, please send your comments so that the Commission receives them in Washington, DC on or before March 9, 2017.

If you sent comments on this Project to the Commission before the opening of this docket on October 13, 2016, you will need to file those comments in Docket No. CP17-3-000 to ensure they are considered as part of this proceeding.

This notice is being sent to the Commission's current environmental mailing list for this Project. State and local government representatives should notify their constituents of this proposed Project and encourage them to comment on their areas of concern.

If you are a landowner receiving this notice, a pipeline company representative may contact you about the acquisition of an easement to construct, operate, and maintain the proposed facilities. The company would seek to negotiate a mutually acceptable agreement. However, if the Commission approves the project, that approval conveys with it the right of eminent domain. Therefore, if easement negotiations fail to produce an agreement, the pipeline company could initiate condemnation proceedings where compensation would be determined in accordance with state law.

DCG should have provided landowners with a fact sheet prepared by the FERC entitled “An Interstate Natural Gas Facility On My Land? What Do I Need To Know?” This fact sheet addresses a number of typically asked questions, including the use of eminent domain and how to participate in the Commission's proceedings. It is also available for viewing on the FERC Web site (www.ferc.gov).

Public Participation

For your convenience, there are three basic methods you can use to submit your comments to the Commission. The Commission encourages electronic filing of comments and has expert staff available to assist you at (202) 502-8258 or efiling@ferc.gov. Please carefully follow these instructions so that your comments are properly recorded.

(1) You can file your comments electronically using the eComment feature on the Commission's Web site (www.ferc.gov) under the link to Documents & Filings. This is an easy method for submitting brief, text-only comments on a project;

(2) You can file your comments electronically by using the eFiling feature on the Commission's Web site (www.ferc.gov) under the link to Documents & Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP17-3-000) with your submission: Kimberly D. Bose, Secretary, Federal Energy Regulatory Commission, 888 First Street NE., Room 1A, Washington, DC 20426.

Summary of the Proposed Project

DCG proposes to abandon, remove, and modify certain natural gas facilities, under Section 7(b) of the Natural Gas Act, along its currently existing mainline Line A in South Carolina. After taking Line A out-of-service, customers would then be provided with natural gas through DCG's existing Line A-1-A that parallels Line A. Line A was originally installed in 1958, and now has integrity issues. The underground pipeline would be capped, filled with nitrogen, and abandoned in place.

The facilities to be abandoned include:

• 55 miles of 10-inch-diameter pipe in Chester, Kershaw, Lancaster, and York Counties;

• 5 miles of 12-inch-diameter pipe in York County; and

• Aboveground facilities (including valves, regulators, or meters) would be removed at 8 existing stations.

DCG would also install new taps, piping, meters, and regulators at 12 existing stations in order to transfer the current feeds off of Line A into Line A-1-A.

The general location of the project facilities is shown in appendix 1.¹

¹ The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Since this is an abandonment Project, DCG will not be acquiring new permanent rights-of-way. In cases where Line A is not directly adjacent to Line 1-A-1, the existing easement may be relinquished to the landowner. Most of the abandonment activities would take place within DCG's existing right-of-way, with the exception of disturbance of a total of about 2 acres at additional temporary workspaces at 21 existing station locations. Eight existing stations would be removed. Crossover piping, new taps, regulators, or meters would be installed at 12 existing stations. Construction at those aboveground facilities would disturb a total of about 7 acres of land. Following removal or construction, DCA would restore the right-of-way, and return the land to its original condition and use. Less than 1 acre would be retained for Project operation.

The EA Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the EA on the important environmental issues. By this notice, the Commission requests public comments on the scope of the issues to address in the EA. We will consider all filed comments during the preparation of the EA.

² “We,” “us,” and “our” refer to the environmental staff of the Commission's Office of Energy Projects.

In the EA we will discuss impacts that could occur as a result of the abandonment, removal, and modification of Project facilities under these general headings:

• Geology and soils;

• land use, recreation, and visual resources;

• water resources, and wetlands;

• cultural resources;

• vegetation and wildlife;

• air quality and noise;

• public safety; and

• cumulative impacts

We will also evaluate reasonable alternatives to the proposed Project or portions of the Project, and make recommendations on how to lessen or avoid impacts on the various environmental resources.

The EA will present our independent analysis of the issues. The EA will be available in the public record through our eLibrary system. We will consider all comments on the EA before making our recommendations to the Commission. To ensure we have the opportunity to consider and address your comments, please carefully follow the instructions in the Public Participation section of this notice.

With this notice, we are asking agencies with jurisdiction by law and/or special expertise with respect to the environmental issues of this Project to formally cooperate with us in the preparation of the EA.³ Agencies that would like to request cooperating agency status should follow the instructions for filing comments provided under the Public Participation section of this notice below.

³ The Council on Environmental Quality regulations for implementing the National Environmental Policy Act address the responsibilities of cooperating agencies at Title 40 Code of Federal Regulations Part 1501.6.

Consultations Under Section 106 of the National Historic Preservation Act

In accordance with the Advisory Council on Historic Preservation's implementing regulations for Section 106 of the National Historic Preservation Act, we are using this notice to initiate consultation with the South Carolina State Historic Preservation Office (SHPO), and to solicit their views, and those of other government agencies, interested Indian tribes, and the public on the Project's potential effects on historic properties.⁴ We will define the project-specific Area of Potential Effects (APE) in consultation with the SHPO as the Project develops. On natural gas facility projects, the APE at a minimum encompasses all areas subject to ground disturbance (examples include construction right-of-way, contractor/pipe storage yards, compressor stations, and access roads). Our EA will summarize the status of consultations under Section 106, and efforts to identify historic properties in the APE and assess Project-related impacts.

⁴ The Advisory Council on Historic Preservation's regulations are at Title 36 Code of Federal Regulations Part 800. Those regulations define historic properties as any prehistoric or historic district, site, building, structure, or object included in or eligible for inclusion in the National Register of Historic Places.

Environmental Mailing List

The environmental mailing list includes federal, state, and local government representatives and agencies; elected officials; environmental and public interest groups; interested Indian Tribes; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the proposed Project.

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the “Document-less Intervention Guide” under the “e-filing” link on the Commission's Web site. Motions to intervene are more fully described at http://www.ferc.gov/resources/guides/how-to/intervene.asp.

Additional Information

Additional information about the project is available from the Commission's Office of External Affairs, at (866) 208-FERC, or on the FERC Web site at www.ferc.gov. On the FERC Web site, go to “Documents & Filings,” and click on the eLibrary link, click on “General Search” and enter the docket number (excluding the last three digits, i.e., CP17-3). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public sessions or site visits will be posted on the Commission's calendar located at www.ferc.gov/EventCalendar/EventsList.aspx along with other related information.

Dated: February 7, 2017.
Kimberly D. Bose,
Secretary.

[FR Doc. 2017-02944 Filed 2-13-17; 8:45 am]

BILLING CODE 6717-01-P